DEPARTMENT OF ENERGY

Federal Energy Regulatory Commission

Sunshine Act Meeting

November 10, 2010.

The following notice of meeting is published pursuant to section 3(a) of the Government in the Sunshine Act (Pub. L. 94-409), 5 U.S.C. 552b:

AGENCY HOLDING MEETING: Federal Energy Regulatory Commission.

DATE AND TIME: November 18, 2010, 10 a.m.

PLACE: Room 2C, 888 First Street, NE., Washington, DC 20426.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

964th—Meeting; Regular Meeting
[November 18, 2010, 10 a.m.]
Item No. | Docket No. | Company
ADMINISTRATIVE
A-1 | AD02-1-000 | Agency Administrative Matters.
A-2 | AD02-7-000 | Customer Matters, Reliability, Security and Market Operations.
A-3 | AD07-13-003 | 2010 Report on Enforcement.
ELECTRIC
E-1 | RM10-11-000 | Integration of Variable Energy Resources.
E-2 | RM09-18-000 | Revision to Electric Reliability Organization Definition of Bulk Electric System.
E-3 | RM10-15-000 | Mandatory Reliability Standards for Interconnection Reliability Operating Limits.
E-4 | ER08-386-000 ER08-386-001 | Potomac-Appalachian Transmission. Highline, L.L.C.
E-5 | ER08-374-001, EL08-38-001 | Atlantic Path 15, LLC.
E-6 | ER08-413-002 | Startrans IO, L.L.C.
E-7 | ER06-278-007 | The Nevada Hydro Company, Inc.
E-8 | RM09-25-000 | System Personnel Training Reliability Standards.
E-9 | RM10-16-000 | System Restoration Reliability Standards.
E-10 | EL10-87-000 | Great River Energy.
E-11 | ER09-1254-002 | Southwest Power Pool, Inc.
E-12 | EL10-82-000 | Southern Montana Electric Generation & Transmission Cooperative, Inc. v. NorthWestern Corporation.
E-13 | OMITTED |
E-14 | EL10-72-000 | Puget Sound Energy, Inc.
GAS
G-1 | RP04-274-020, RP04-274-017, RP04-274-018, RP04-274-019, RP04-274-016, RP04-274-009, RP04-274-021 | Kern River Gas Transmission Company.
G-2 | RP10-1045-000 | Arena Energy, LP, Complainant v. Sea Robin Pipeline Company, LLC, Respondent.
G-3 | RP11-1494-000 | Kinder Morgan Interstate Gas Transmission LLC.
G-4 | RP11-1495-000 | Ozark Gas Transmission, L.L.C.
HYDRO
H-1 | P-13323-001 | Bishop Tungsten Development LLC.
H-2 | P-13452-000 | McGinnis, Inc.
H-3 | P-13445-000 | McGinnis, Inc.
H-4 | P-13450-000 | McGinnis, Inc.
H-5 | P-10482-104 | AER NY-Gen, LLC. Eagle Creek Hydro Power, LLC. Eagle Creek Water Resources, LLC. Eagle Creek Land Resources, LLC.
CERTIFICATES
C-1 | CP10-509-000 | Sawgrass Storage LLC.
C-2 | CP10-78-000 | CenterPoint Energy Gas Transmission Company.
C-3 | CP09-455-001 CP09-456-001 | Florida Gas Transmission Company, LLC. Transcontinental Gas Pipe Line Company, LLC. Florida Gas Transmission Company, LLC.
C-4 | CP10-50-001 | Petal Gas Storage, L.L.C.

Kimberly D. Bose,
Secretary.

A free webcast of this event is available through http://www.ferc.gov. Anyone with Internet access who desires to view this event can do so by navigating to http://www.ferc.gov' s Calendar of Events and locating this event in the Calendar. The event will contain a link to its webcast. The Capitol Connection provides technical support for the free webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2010-29049 Filed 11-12-10; 4:15 pm]

BILLING CODE 6717-01-P